DEPARTMENT OF AGRICULTURE

Submission for OMB Review; Comment Request

April 21, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of informaCtion unless the collection of information displays a currently valid OMB control number and the agency informs potential persons who are to respond to the collection of information that such persons are not required to respond to the collection of information unless it displays a currently valid OMB control number.

Rural Business-Cooperative Service

Title: Guidelines for Designating Biobased Products for Federal Procurement.

OMB Control Number: 0570-0073.

Summary of Collection: The USDA BioPreferred Program provides that qualifying biobased products that fall under product categories (generic groups of biobased products) that have been designated for preferred procurement by rule making are required to be purchased by Federal agencies in lieu of their fossil energy-based counterparts, with certain limited exceptions. Further, USDA is required by section 9002 of the Farm Security and Rural Investment Act of 2002, as amended by the Food, Conservation, and Energy Act of 2008 and the Agricultural Act of 2014, and the Agricultural Improvement Act of 2018, to provide certain information on qualified biobased products to Federal agencies.

Need and Use of the Information: To meet these statutory requirements, USDA will gather that information from manufacturers and vendors of biobased products. The information sought by USDA can be transmitted electronically using the website http://www.biopreferred.gov. If for any reason the requested information cannot be electronically transmitted, USDA will provide technical assistance to support the transmission of information to USDA. The information collected will enable USDA to meet statutory information requirements that will then permit USDA to designate product categories for preferred procurement under the BioPreferred Program. Once product categories are designated, manufacturers and vendors of qualifying biobased products that fall under these designated product categories will benefit from preferred procurement by Federal agencies. This collection was previously approved under 0503-0011, and on February 4, 2021, was transferred to Rural Development and assigned OMB Control No. 0570-0073.

Description of Respondents: Business or other for-profit.

Number of Respondents: 220.

Frequency of Responses: Recordkeeping; Reporting: Other (once).

Total Burden Hours: 8,800.

Levi S. Harrell,
Departmental Information Collection Clearance Officer.

[FR Doc. 2021-08579 Filed 4-23-21; 8:45 am]

BILLING CODE 3410-XY-P